DEPARTMENT OF THE TREASURY

Office of Thrift Supervision

Procedures for Monitoring Secrecy Act Compliance

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection requirement described below to the Office of Management and Budget (OMB) for review, as required by the Paperwork Reduction Act. Today, OTS is soliciting public comments on its proposal to extend this information collection.

DATES: Submit written comments on or before April 12, 2010.

ADDRESSES: Send comments, referring to the collection by title of the proposal or by OMB approval number, to Information Collection Comments, Chief Counsel's Office, Office of Thrift Supervision, 1700 G Street, NW., Washington, DC 20552; send a facsimile transmission to (202) 906-6518; or send an e-mail to infocollection.comments@ots.treas.gov. OTS will post comments and the related index on the OTS Internet site at http://www.ots.treas.gov. In addition, interested persons may inspect comments at the Public Reading Room, 1700 G Street, NW., and by appointment. To make an appointment, call (202) 906-5922, send an e-mail to public.info@ots.treas.gov, or send a facsimile transmission to (202) 906-7755.

FOR FURTHER INFORMATION CONTACT: You can request additional information about this proposed information collection from Louise Batdorf (202) 906-7087, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Comments should address one or more of the following points:

a. Whether the proposed collection of information is necessary for the proper performance of the functions of OTS;

b. The accuracy of OTS's estimate of the burden of the proposed information collection;

c. Ways to enhance the quality, utility, and clarity of the information to be collected;

d. Ways to minimize the burden of the information collection on respondents, including through the use of information technology.

We will summarize the comments that we receive and include them in the OTS request for OMB approval. All comments will become a matter of public record. In this notice, OTS is soliciting comments concerning the following information collection:

Title of Proposal: Procedures for Monitoring Bank Secrecy Act Compliance.

OMB Number: 1550-0041.

Form Numbers: N/A.

Regulation requirement: 12 CFR Parts 563.177 and 563.180.

Description: In 1970, Congress passed the Currency and Foreign Transactions Report Act commonly known as the ‘Bank Secrecy Act' (“BSA”). The Money Laundering Control Act of 1986 further augmented the BSA's effectiveness by adding interrelated sections 8(s) and 21 to the Federal Deposit Insurance Act, which applies to savings associations. Specifically, Section 1359 of the Anti-Drug Abuse Act of 1986, Public Law 99-570 (“Act”), required the former Federal Home Loan Bank Board (“FHLBB”) to prescribe regulations requiring regulated institutions to establish and maintain procedures reasonably designed to assure and monitor compliance with the BSA and the U.S. Department of Treasury regulation 31 CFR part 103. The Office of Thrift Supervision (“OTS”) is charged with the responsibility to examine savings association procedures periodically to ensure their effectiveness; OTS is therefore subject to the Act. See 12 CFR 563.177 and 563.180. The requirement that savings associations establish written BSA compliance procedures is a one-time event, but revisions to those procedures must occur as deemed necessary.

OTS examiners review the written procedures during examinations in order to ensure the implementation of adequate systems for complying with the BSA and its implementing regulations.

Type of Review: Extension of a currently approved collection.

Affected Public: Businesses or other for-profit.

Estimated Number of Respondents: 765.

Estimated Burden Hours per Response: 40 hours.

Estimated Frequency of Response: Annually.

Estimated Total Burden: 30,600 hours.

Dated: February 3, 2010.
Ira L. Mills,
Paperwork Clearance Officer, Office of Thrift Supervision.

[FR Doc. 2010-2719 Filed 2-8-10; 8:45 am]

BILLING CODE 6720-01-P